DEPARTMENT OF EDUCATION

[Docket No.: ED-2022-SCC-0039]

Agency Information Collection Activities; Submission to the Office of Management and Budget for Review and approval; Comment Request; Public Service Loan Forgiveness Reconsideration Request

AGENCY: Federal Student Aid (FSA), Department of Education (ED).

ACTION: Notice.

SUMMARY: In accordance with the Paperwork Reduction Act of 1995, ED is proposing an extension without change of a currently approved collection.

DATES: Interested persons are invited to submit comments on or before October 3, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: Public Service Loan Forgiveness Reconsideration Request.

OMB Control Number: 1845-0164.

Type of Review: An extension without change of a currently approved collection.

Respondents/Affected Public: Individuals and Households.

Total Estimated Number of Annual Responses: 36,000.

Total Estimated Number of Annual Burden Hours: 9,000.

Abstract: The Department of Education (Department) is requesting the extension of this information collection. This collection is used to obtain information from federal student loan borrowers to determine eligibility for reconsideration of their Public Service Loan Forgiveness (PSLF) or Temporary Expanded Public Service Loan Forgiveness (TEPSLF) denial notification on the basis of payment counts or employer eligibility determinations pursuant to a settlement agreement between the Department and the American Federation of Teachers (ATF) which was signed on October 12, 2021.

The settlement between the Department and the AFT requires that “as soon as practicable but no later than April 30, 2022, the Department will establish an interim reconsideration process that will be available to any borrower whose application for PSLF or TEPSLF has been or is denied”. In continue to meet the requirements of this settlement, the Department must gather the information needed from the borrowers to reconsider their denial. This collection allows for the collection and review of such reconsideration requests.

Dated: August 30, 2022.
Kun Mullan,
PRA Coordinator, Strategic Collections and Clearance Governance and Strategy Division, Office of Chief Data Officer, Office of Planning, Evaluation and Policy Development.

[FR Doc. 2022-19052 Filed 9-1-22; 8:45 am]

BILLING CODE 4000-01-P